DEPARTMENT OF HOMELAND SECURITY

Office of the Secretary

[Docket No. DHS-2016-0043]

Privacy Act of 1974; Department of Homeland Security/United States Citizenship and Immigration Services-007 Benefit Information System, System of Records

AGENCY: Privacy Office, Department of Homeland Security.

ACTION: Notice of Privacy Act system of records.

SUMMARY: In accordance with the Privacy Act of 1974, the Department of Homeland Security (DHS) proposes to update and reissue a current DHS system of records titled, “DHS/United States Citizenship and Immigration Services (USCIS)-007 Benefit Information System” system of records. DHS/USCIS collects, uses, and maintains the Benefit Information System records to administer immigrant or nonimmigrant benefit requests, “hereinafter collectively referred to as “benefit requests” ” to process and adjudicate all benefit requests submitted for naturalization, lawful permanent residence, asylum, refugee status, and other immigrant and nonimmigrant benefits in accordance with U.S. immigration law. DHS/USCIS also uses the Benefit Information System to support national security by preventing individuals from fraudulently obtaining immigration benefits and by denying benefit requests submitted by individuals who pose national security or public safety threats. This system of records notice was previously published in the Federal Register on September 29, 2008, (73 FR 56596).

DHS/USCIS is updating this system of records to: (1) Update the system location to include international offices and replicated copies on unclassified and classified networks; (2) update the category of individuals to include interpreters, preparers, physicians, and sponsors; (3) expand the categories of records to clarify the data elements that USCIS collects from benefit requestors, beneficiaries, and family members', benefit sponsors; representatives; preparers and interpreters; and physicians; (4) separate routine use (N) into two separate routine uses (i.e., (N), (O)) to provide clarity on information sharing with federal, state, tribal, or local government agencies and foreign government agencies for the repayment of loans; (5) update routine uses (W), (X), (Y), and (Z) to permit the sharing of information pursuant to a Computer Matching Agreement or other agreement, with the Department of Labor, with the public during the course of naturalization ceremonies, and with the Department of Treasury, respectively; (6) update retention schedules for each record type; (7) expand data elements used to retrieve records from the elements listed or a combination thereof; (8) update sources of records to include interpreters, preparers, and physicians; and (9) expand the system classification to provide notice that Benefit Information System records may be stored on both DHS unclassified and classified networks to allow for analysis and vetting consistent with existing DHS/USCIS authorities and purposes and this published notice. Additionally, this notice includes non-substantive changes to simplify the formatting and text of the previously published notice.

This updated system will be included in the Department of Homeland Security's inventory of record systems.

DATES: Submit comments on or before November 17, 2016. This updated system will be effective November 17, 2016.

ADDRESSES: You may submit comments, identified by docket number DHS-2016-0043 by one of the following methods:

• Federal e-Rulemaking Portal: http://www.regulations.gov. Follow the instructions for submitting comments.

• Fax: 202-343-4010.

• Mail: Jonathan R. Cantor, Acting Chief Privacy Officer, Privacy Office, Department of Homeland Security, Washington, DC 20528.

INSTRUCTIONS: All submissions received must include the agency name and docket number for this rulemaking. All comments received will be posted without change to http://www.regulations.gov, including any personal information provided.

DOCKET: For access to the docket to read background documents or comments received, please visit http://www.regulations.gov.

FOR FURTHER INFORMATION CONTACT: For general questions, please contact: Donald K. Hawkins, (202) 272-8000, Privacy Officer, U.S. Citizenship and Immigration Services, 20 Massachusetts Avenue NW., Washington, DC 20529. For privacy questions, please contact: Jonathan R. Cantor, (202) 343-1717, Acting Chief Privacy Officer, Privacy Office, Department of Homeland Security, Washington, DC 20528.

SUPPLEMENTARY INFORMATION:

I. Background

In accordance with the Privacy Act of 1974, 5 U.S.C. 552a, the Department of Homeland Security (DHS) United States Citizenship and Immigration Services (USCIS) proposes to update and reissue a current DHS system of records titled, “DHS/USCIS-007 Benefit Information System” system of records.

DHS/USCIS oversees lawful immigration and non-immigration to the United States and is responsible for the administration of immigration, non-immigration, and naturalization adjudication functions and for establishing immigration policies and priorities. In executing its mission, DHS/USCIS performs functions that include the intake, review, and adjudication of the following types of benefits:

(1) Family-Based; ¹

¹ An individual may petition for relatives (or future relatives such as a fiancé(e) or a prospective adopted child) to immigrate to the United States.

(2) Employment-Based; ²

² All foreign workers must obtain permission to work legally in the United States. Each employment category for admission has different requirements, conditions, and authorized periods of stay. USCIS offers the following employment-based categories: Temporary (nonimmigrant) worker, permanent workers, students and exchange visitors, and temporary visitors for business.

(3) Humanitarian-Based; ³

³ USCIS provides a number of humanitarian programs and protection to assist individuals in need of shelter or aid from disasters, from oppression, for emergency medical issues, and for other urgent circumstances, including: Asylum; refugee; parole; deferred action; temporary protective status; battered spouse, children, and parents; and victims of human trafficking and other crimes.

(4) Adoption-Based; ⁴ and

⁴ USCIS is responsible for determining the eligibility and suitability of the Prospective Adoptive Parents (individuals) looking to adopt and determining the eligibility of the child to immigrate to the United States.

(5) Citizenship and Naturalization-Based.⁵

⁵ Naturalization is the manner in which a person not born in the United States voluntarily becomes a U.S. citizen.

The Benefits Information System SORN covers the processing of immigrant and nonimmigrant benefit requests and does not cover requests for asylum and refugee status. The Benefits Information System includes: Information provided by or on behalf of individuals who submit immigrant and nonimmigrant benefit requests; background check results collected as part of the USCIS-initiated background check process; and transactional data that indicates which steps of the adjudication process have been completed, such as an appointment to submit biometrics for a background check, other pending benefits, whether the benefit requestor may have engaged in fraudulent activity, or activities that adversely impact the national security or public safety of the United States that could bear on fitness or eligibility for the requested benefits.

Records covered by this Benefit Information System (BIS) SORN differ from records covered by the Alien File (A-File), Index, and National File Tracking SORN (see DHS/USCIS/ICE/CBP-001 Alien File, Index, and National File Tracking System of Records, November 21, 2013, 78 FR 69864). The A-File is the official record regarding the transactions of an individual as he or she passes through the U.S. immigration and inspection process. The A-File contains information relating to immigration benefits processing, protection of national security, and administering and enforcing immigration and nationality laws and related statutes. While USCIS is the custodian of the A-File, the three former Immigration and Naturalization Service (INS) agencies: USCIS, U.S. Customs and Border Protection (CBP), and U.S. Immigrations and Customs Enforcement (ICE), all contribute information to and use A-Files. The A-File SORN covers the paper and electronic copy A-File and/or Receipt File, supplemental forms, supplemental evidence, and identity history summaries (formally known as RAP sheets), but does not include all case processing and decisional data. The BIS SORN is specific to USCIS' collection, use, maintenance, dissemination, and storage of benefit request information, including case processing and decisional data not included in the A-file. USCIS records case processing information such as date USCIS received or filed benefit requests; benefit request status; location of record; other control number when applicable; fee receipt data; status of USCIS appointments and interviews; date of issuance of a notice; and whether the benefit request form was referred to the Fraud Detection and National Security Directorate for review. Decisional data such as approval/denial code is also stored in the BIS SORN.

USCIS is updating this system of records to (1) update system location to include international offices; (2) update category of individuals covered by this SORN, to include interpreters, preparers, and physicians, and sponsors; (3) expand the categories of records to clarify the data elements that USCIS collects from benefit requestors, beneficiaries, and family members; benefit sponsors; representatives; preparers and interpreters; and physicians; (4) separate routine use (N) has been separated into two separate routine uses (i.e., (N), (O)) to provide clarity on information sharing of information with federal, state, tribal, or local government agencies and foreign government agencies for the, respectively, in collecting the repayment of loans; later routine uses are being re-lettered for formatting; (5) update routine uses (W), (X), (Y), and (Z) to permit the sharing of information pursuant to a Computer Matching Agreement or other agreement, with the Department of Labor, with the public during the course of naturalization ceremonies, and with the Department of Treasury, respectively; (6) update retention schedules for each record type; (7) expand data elements used to retrieve records from the elements listed or a combination thereof; (8) update sources of records to include interpreters, preparers, and physicians; (9) expand the system classification to provide notice that Benefit Information System records may be stored on both DHS unclassified and classified networks to allow for analysis and vetting consistent with existing DHS/USCIS authorities and purposes and this published notice. Furthermore, this notice includes non-substantive changes to simplify the formatting and text of the previously published notice.

Consistent with DHS's information sharing mission, information stored in the DHS/USCIS-007 Benefit Information System may be shared with other DHS components that have a need to know the information to carry out their national security, law enforcement, immigration, intelligence, or other homeland security functions. In addition, DHS/USCIS may share information with appropriate federal, state, local, tribal, territorial, foreign, or international government agencies consistent with the routine uses set forth in this system of records notice. Even when a valid routine use permits disclosure of information from this system of records to a third party, in some cases such disclosure may not be permissible because of confidentiality laws and policies that limit the sharing of information regarding individuals applying for certain immigration or non-immigration benefits.

This updated system will be included in DHS's inventory of record systems.

II. Privacy Act

The Privacy Act embodies fair information practice principles in a statutory framework governing the means by which federal government agencies collect, maintain, use, and disseminate individuals' records. The Privacy Act applies to information that is maintained in a “system of records.” A “system of records” is a group of any records under the control of an agency from which information is retrieved by the name of an individual or by some identifying number, symbol, or other identifying particular assigned to the individual. In the Privacy Act, an individual is defined to encompass U.S. citizens and lawful permanent residents. As a matter of policy, DHS extends administrative Privacy Act protections to all individuals when systems of records maintain information on U.S. citizens, lawful permanent residents, and visitors.

Below is the description of the DHS/USCIS-007 Benefit Information System System of Records.

In accordance with 5 U.S.C. 552a(r), DHS has provided a report of this system of records to the Office of Management and Budget and to Congress.

System of Records

DEPARTMENT OF HOMELAND SECURITY (DHS)/UNITED STATES CITIZENSHIP AND IMMIGRATION SERVICES (USCIS)-007

System name:

DHS/USCIS-007 Benefit Information System.

Security classification:

Unclassified, Sensitive, For Official Use Only. The data may be retained on classified networks, but this does not change the nature and character of the data until it is combined with classified information.

System location:

Records are maintained in DHS/USCIS information technology (IT) systems (e.g., Computer Linked Application Information Management System (CLAIMS) 3, CLAIMS 4, Adoptions Case Management System, Case and Activity Management for International Operations) and associated electronic and paper files located at USCIS Headquarters in Washington, DC and in DHS/USCIS service centers and domestic and international field offices. Records are replicated from the operational DHS/USCIS IT systems and maintained on DHS unclassified and classified networks.

Categories of individuals covered by the system:

Categories of individuals covered by this system include (1) persons who have filed, for themselves or on the behalf of others (benefit requestors and beneficiaries), benefit requests for immigration benefits under the Immigration and Nationality Act as amended, and/or who have submitted fee payments or received refunds from such benefit requests; (2) current, former, and potential derivatives of benefit requestors (family members); (3) sponsors (e.g., employers, law enforcement officers, individuals); (4) attorneys and representatives recognized by USCIS and/or accredited by the Board of Immigration Appeals (Representatives); (5) interpreters; (6) individuals who assist in the preparation of the benefit request (Preparers); (7) individuals who make fee payments on behalf of the benefit requestor; and (8) physicians who conduct immigration related medical examinations.

Categories of records in the system:

Information about benefit requestor, beneficiaries, and family members may include:

• Full Name;

• Alias(es);

• Physical and Mailing Addresses;

• A-Number;

• USCIS Online Account Number;

• Social Security number (SSN);

• Date of birth and/or Death;

• Nationality;

• Country of Citizenship;

• Place of birth;

• Gender;

• Marital status;

• Military status;

• Phone and fax numbers;

• Email address;

• Immigration status;

• Government-issued identification (e.g., passport, drivers' license):

○ Document type;

○ Issuing organization;

○ Document number;

○ Expiration date;

○ Benefit requested;

• Notices and communications, including:

○ Receipt notices;

○ Requests for Evidence;

○ Notices of Intent to Deny;

○ Proofs of benefit;

• Signature;

• Benefit request fee payment information (e.g., credit card number, Pay.gov Payment Tracking Number); and

• Audio-visual recordings, including interviews and naturalization ceremonies.

Benefit-specific eligibility information about benefit requestor, beneficiaries, and family members may include:

• Other unique identifying numbers (e.g., Department of State (DOS)-Issued Personal Identification Number, ICE Student and Exchange Visitor Number, USCIS E-Verify Company Identification Number);

• Arrival/Departure Information;

• Immigration history (e.g., citizenship/naturalization certificate number, removals, explanations);

• Family relationships (e.g., parent, spouse, sibling, child, other dependents) and Relationship Practices (e.g., polygamy, custody, guardianship);

• USCIS Receipt/Case Number;

• Personal background information (e.g., involvement with national security threats, criminal offenses, Communist party, torture, genocide, killing, injuring, forced sexual contact, limiting or denying others religious beliefs, service in military or other armed groups, work in penal or detention systems, weapons distribution, combat training);

• Records regarding organization membership or affiliation;

• Health information (e.g., vaccinations, referrals, communicable diseases, physical or mental disorders, prostitution, drug or alcohol abuse);

• Travel history;

• Education history;

• Work history;

• Professional accreditation information;

• Financial information (e.g., income, expenses, scholarships, savings, assets, property, financial support, supporter information, life insurance, debts, encumbrances, tax records);

• Supporting documentation as necessary (e.g., birth, marriage, and divorce certificates; licenses; academic diplomas; academic transcripts; appeals or motions to reopen or reconsider decisions; explanatory statements; deoxyribonucleic acid (DNA) results; and unsolicited information submitted voluntarily by the benefit requestor or family members in support of a benefit request);

• Physical Description (e.g., height, weight, eye color, hair color, race, ethnicity, identifying marks like tattoos or birthmarks);

• Biometric (i.e., fingerprints and photographs) and other information (i.e., race, ethnicity, weight, height, eye color, hair color) collected to conduct background checks;

• Description of relationships between benefit requestors, representative, preparers, and family members;

• Information regarding the status of Department of Justice (DOJ), Executive Office of Immigration Review (EOIR) proceedings, if applicable; and

• Case processing information such as date benefit requests were filed or received by USCIS; benefit request status; location of record; other control number when applicable; and fee receipt data.

Information about Benefit Sponsors may include:

• Full name;

• Gender;

• Physical and mailing addresses;

• Phone and fax numbers;

• Country of domicile;

• Date of birth;

• Place of birth;

• Citizenship information;

• SSN;

• A-Number;

• USCIS Online Account Number;

• Employment information;

• Financial information (e.g., income, expenses, scholarships, savings, assets, property, financial support, supporter information, life insurance, debts, encumbrances, tax records);

• Position and relationship to an organization (e.g., manager of a company seeking formal recognition by USCIS);

• Family relationships (e.g., parent, spouse, sibling, natural, foster, and/or adopted child, other dependents); and

• Relationship practices (e.g., polygamy, custody, guardianship).

Information about Representatives includes:

• Name;

• Law Firm/Recognized Organization;

• Physical and mailing addresses;

• Phone and fax numbers;

• Email address;

• Attorney Bar Card Number or equivalent;

• Bar membership;

• Accreditation date;

• Board of Immigration Appeals Representative Accreditation;

• Expiration date;

• Law Practice Restriction explanation; and

• Signature.

Information about Preparers and Interpreters may include:

• Full name;

• Organization;

• Business State ID number;

• Employer Tax Identification Number;

• Physical and mailing addresses;

• Email address;

• Phone and fax numbers;

• Relationship to benefit requestor; and

• Signature.

Information about individuals who make fee payments on behalf of the benefit requestor includes:

• Name;

• Email address;

• Phone number;

• Mailing address; and

• Payment information.

Information about Physicians may include:

• Full name;

• Organization name;

• Physical and mailing addresses;

• Professional experience;

• License number;

• Other Physician Identifying Number(s);

• Licensing state and date of issuance;

• Type of Degree/License (i.e., medical doctor, doctor of osteopathy, or clinical psychologist);

• Type of medical practice;

• Examination dates of the benefit requestor;

• Clinical methods used to diagnose benefit requestor;

• Email address; and

• Signature.

Authority for maintenance of the system:

Authority for maintaining this system is in Sections 103 and 290 of the INA, as amended (8 U.S.C. 1103 and 1360), the regulations issued pursuant thereto; and Section 451 of the Homeland Security Act of 2002 (Pub. L. 107-296).

Purpose(s):

The purpose of this system is to permit USCIS' collection, use, maintenance, dissemination, and storage of paper and electronic benefit request information, including case processing and decisional data not included in the A-File SORN (DHS/USCIS/ICE/CBP-001 Alien File, Index, and National File Tracking System of Records, November 21, 2013, 78 FR 69864). These records assist in the processing of immigrant and nonimmigrant benefit requests from the time when USCIS collects the information from the benefit requestor until the case reaches a final decision in the relevant case management system. This system of records does not cover requests for asylum or refugee status. This system of records notice enables DHS/USCIS to process benefit requests electronically; determine the status of pending benefit requests; account for and control the receipt and disposition of any fees and refunds collected; conduct searches pursuant to Freedom of Information Act (FOIA) and Privacy Act requests; and locate related physical and automated files to support DHS/USCIS responses to inquiries about these records.

DHS/USCIS maintains a replica of some or all of the data in the operating system on DHS unclassified and classified networks to allow for analysis and vetting consistent with the above stated purposes and this published notice.

Routine uses of records maintained in the system, including categories of users and the purposes of such uses:

In addition to those disclosures generally permitted under 5 U.S.C. 552a(b) of the Privacy Act, all or a portion of the records or information contained in this system may be disclosed outside DHS as a routine use pursuant to 5 U.S.C. 552a(b)(3). Even when a valid routine use permits disclosure of information from this system of records to a third party, in some cases such disclosure may not be permissible because of confidentiality laws and policies that limit the sharing of information regarding individuals applying for certain immigration or non-immigration benefits.

Information in this system of records contains information relating to persons who have pending or approved benefit requests for special protected classes and should not be disclosed pursuant to a routine use unless disclosure is otherwise permissible under the confidentiality statutes, regulations, or policies applicable to that information. For example, information relating to persons who have pending or approved benefit requests for protection under the Violence Against Women Act, Seasonal Agricultural Worker or Legalization claims, the Temporary Protected Status of an individual, and information relating to nonimmigrant visas protected under special confidentiality provisions should not be disclosed pursuant to a routine use unless disclosure is otherwise permissible under the confidentiality statutes, regulations, or policies applicable to that information. These confidentiality provisions do not prevent DHS from disclosing information to the U.S. Department of Justice (DOJ) and Offices of the United States Attorney as part of an ongoing criminal or civil investigation.

A. To the DOJ, including Offices of the United States Attorneys, or other federal agency conducting litigation or in proceedings before any court, adjudicative, or administrative body, when it is relevant or necessary to the litigation and one of the following is a party of the litigation or has an interest in such litigation:

1. DHS or any component thereof;

2. Any employee or former employee of DHS in his/her official capacity;

3. Any employee or former employee of DHS in his/her individual capacity when DOJ or DHS has agreed to represent the employee; or

4. The United States or any agency thereof.

B. To a congressional office from the record of an individual in response to an inquiry from that congressional office made at the request of the individual to whom the record pertains.

C. To the National Archives and Records Administration (NARA) or General Services Administration pursuant to records management inspections being conducted under the authority of 44 U.S.C. 2904 and 2906.

D. To an agency or organization for the purpose of performing audit or oversight operations as authorized by law, but only such information as is necessary and relevant to such audit or oversight function.

E. To appropriate agencies, entities, and persons when:

1. DHS suspects or has confirmed that the security or confidentiality of information in the system of records has been compromised;

2. DHS has determined that as a result of the suspected or confirmed compromise, there is a risk of identity theft or fraud, harm to economic or property interests, harm to an individual, or harm to the security or integrity of this system or other systems or programs (whether maintained by DHS or another agency or entity) that rely upon the compromised information; and

3. The disclosure made to such agencies, entities, and persons is reasonably necessary to assist in connection with DHS' efforts to respond to the suspected or confirmed compromise and prevent, minimize, or remedy such harm.

F. To contractors and their agents, grantees, experts, consultants, and others performing or working on a contract, service, grant, cooperative agreement, or other assignment for DHS, when necessary to accomplish an agency function related to this system of records. Individuals provided information under this routine use are subject to the same Privacy Act requirements and limitations on disclosure as are applicable to DHS officers and employees.

G. To an appropriate federal, state, tribal, local, international, or foreign law enforcement agency or other appropriate authority charged with investigating or prosecuting a violation, enforcing, or implementing a law, rule, regulation, or order, when a record, either on its face or in conjunction with other information, indicates a violation or potential violation of law, which includes criminal, civil, or regulatory violations and such disclosure is proper and consistent with the official duties of the person making the disclosure.

H. To clerks and judges of courts exercising naturalization jurisdiction for the purpose of filing applications for naturalization and to enable such courts to determine eligibility for naturalization or grounds for revocation of naturalization.

I. To the Department of State for the purpose of assisting in the processing of benefit requests under the Immigration and Nationality Act, and all other immigration and nationality laws including treaties and reciprocal agreements.

J. To appropriate Federal, State, tribal, and local government law enforcement and regulatory agencies, foreign governments, and international organizations, as well as to other individuals and organizations during the course of an investigation by DHS or the processing of a matter under DHS jurisdiction, or during a proceeding within the purview of the immigration and nationality laws, when DHS deems that such disclosure is necessary to carry out its functions and statutory mandates to elicit information required by DHS to carry out its functions and statutory mandates.

K. To an appropriate Federal, State, local, tribal, foreign, or international agency, if the information is relevant and necessary to a requesting agencies decision concerning the hiring or retention of an individual, or issuance of a security clearance, license, contract, grant, or other benefit, or if the information is relevant and necessary to a DHS decision concerning the hiring or retention of an employee, the issuance of a security clearance, the reporting of an investigation of an employee, the letting of a contract, or the issuance of a license, grant, or other benefit and when such disclosure is appropriate to the proper performance of the official duties of the person making the request.

L. To the Office of Management and Budget in connection with the review of private relief legislation as set forth in OMB Circular No. A-19 at any stage of the legislative coordination and clearance process as set forth in the Circular.

M. To an attorney or representative (as defined in 8 CFR 1.1(j)) who is acting on behalf of an individual covered by this system of records in connection with any proceeding before DHS/USCIS or the Executive Office for Immigration Review.

N. To a federal, state, tribal, or local government agency to assist such agencies in collecting the repayment of loans, fraudulently or erroneously secured benefits, grants, or other debts owed to them or to the United States Government, or to obtain information that may assist USCIS in collecting debts owed to the United States Government.

O. To a foreign government to assist such government in collecting the repayment of loans, fraudulently or erroneously secured benefits, grants, or other debts owed to it, provided that the foreign government in question:

1. Provides sufficient documentation to establish the validity of the stated purpose of its request; and

2. Provides similar information to the United States upon request.

P. To a coroner for purposes of affirmatively identifying a deceased individual (whether or not such individual is deceased as a result of a crime).

Q. Consistent with the requirements of the Immigration and Nationality Act, to the Department of Health and Human Services (HHS), the Centers for Disease Control and Prevention (CDC), or to any State or local health authorities, to:

1. Provide proper medical oversight of DHS-designated civil surgeons who perform medical examinations of both arriving foreign nationals and of those requesting status as a lawful permanent resident; and

2. To ensure that all health issues potentially affecting public health and safety in the United States are being or have been, adequately addressed.

R. To a federal, state, or local government agency seeking to verify or ascertain the citizenship or immigration status of any individual within the jurisdiction of the agency for any purpose authorized by law.

S. To the Social Security Administration (SSA) for the purpose of issuing a Social Security number and card to an alien who has made a request for a Social Security number as part of the immigration process and in accordance with any related agreements in effect between the SSA, DHS, and the Department of State entered into pursuant to 20 CFR 422.103(b)(3); 422.103(c); and 422.106(a), or other relevant laws and regulations.

T. To a former employee of DHS, in accordance with applicable regulations, for purposes of responding to an official inquiry by a federal, state, or local government entity or professional licensing authority; or facilitating communications with a former employee that may be necessary for personnel-related or other official purposes when the Department requires information or consultation assistance from the former employee regarding a matter within that persons former area of responsibility.

U. To an individual's prospective or current employer to the extent necessary to determine employment eligibility (for example, pursuant to the Form I-140, Immigrant Petition for Alien Worker).

V. To a federal, state, or local agency, or other appropriate entities or individuals, or through established liaison channels to selected foreign governments, in order to provide intelligence, counterintelligence, or other information for the purposes of intelligence, counterintelligence, or antiterrorism activities authorized by U.S. law, or Executive Order.

W. To approved federal, state, and local government agencies that grant public benefits, licenses, grants, governmental credentials, or any other statutorily authorized purpose when the immigration status of the benefit applicant is legally required and an approved Memorandum of Agreement or Computer Matching Agreement (CMA) is in place between DHS and the entity.

X. To the Department of Labor for enforcement of labor certification violations and violations of U.S. labor laws.

Y. To the news media and the public during the course of naturalization ceremonies administered by USCIS or an Immigration Judge. Pursuant to 8 CFR 337.2 individuals to be naturalized are generally required to appear in a public ceremony, unless an appearance is specifically excused.

Z. To the Department of Treasury to perform initial processing of benefit requests and to accept and resolve payment and any related issues.

AA. To the news media and the public, with the approval of the Chief Privacy Officer in consultation with counsel, when there exists a legitimate public interest in the disclosure of the information, when disclosure is necessary to preserve confidence in the integrity of DHS, or when disclosure is necessary to demonstrate the accountability of DHS officers, employees, or individuals covered by the system, except to the extent the Chief Privacy Officer determines that release of the specific information in the context of a particular case would constitute an unwarranted invasion of personal privacy.

Disclosure to consumer reporting agencies:

Through the ICE Financial Operations—Burlington at DHS, Benefits Information Systems information may be shared with credit reporting agencies. The primary mission of the ICE Financial Operations—Burlington is to collect debts resulting from an individual's participation in DHS benefits programs. USCIS may share Benefits Information System information with the ICE Financial Operations—Burlington regarding fees charged during the various benefit requests processes to ensure collection of debts.

Pursuant to 5 U.S.C. 552a(b)(12), the Department of Treasury Financial Management Service, on behalf of USCIS, may disclose to consumer reporting agencies in accordance with the provision of 15 U.S.C. 1681, et seq. or the Federal Claims Collection Act of 1966 as amended (31 U.S.C. 3701, et seq.). The purpose of this disclosure is to aid in the collection of outstanding debts owed to the Federal Government, typically, to provide an incentive for debtors to repay delinquent Federal Government debts by making these part of their credit records.

Disclosure of records is limited to the individual's name, address, EIN/SSN, and other information necessary to establish the individual's identity; the amount, status, and history of the claim; and the agency or program under which the claim arose. The disclosure will be made only after the procedural requirements of 31 U.S.C. 3711(e) have been followed.

Policies and practices for storing, retrieving, accessing, retaining, and disposing of records in the system:

Storage:

DHS/USCIS stores records in this system electronically in the operational IT systems (such as CLAIMS 3 and CLAIMS 4), including on DHS unclassified and classified networks, or on paper in secure facilities in a locked drawer or behind a locked door. The records may be stored on magnetic disc, tape, within cloud service providers, and digital media.

Retrievability:

Records may be retrieved by any of the data elements listed above or a combination thereof. This may include, but is not limited to, name, date of birth, Alien Number, SSN, USCIS Online Account Number, and Receipt Number.

Safeguards:

DHS/USCIS safeguards records in this system according to applicable rules and policies, including all applicable DHS automated systems security and access policies. DHS/USCIS has imposed strict controls to minimize the risk of compromising the information that is being stored. Access to the computer system containing the records in this system is limited to those individuals who have a need to know the information for the performance of their official duties and who have appropriate clearances or permissions.

Retention and disposal:

DHS/USCIS stores the physical documents (paper forms) and supplemental documentation in the Alien File and processes benefit requests in the respective DHS/USCIS case management system. The A-File records are permanent whether hard copy or electronic. DHS/USCIS transfers the A-Files to the custody of NARA 100 years after the individual's date of birth.

Electronic benefits information is archived and disposed of in accordance with NARA-approved retention schedule for the respective USCIS systems.

• Electronic data pertaining to applications for naturalization will be deleted 15 years after the processing of the benefit being sought is completed. Information in the master file is destroyed 15 years after the last completed action with respect to the application.

• Electronic records pertaining to benefits other than naturalization completed by benefit requestors domestically are destroyed after the data is transferred to the electronic master file and verified. Information in the master file is destroyed 50 years after the last completed action with respect to the benefit.

• Electronic records pertaining to benefits requests other than naturalization and are completed by benefit requestors internationally are destroyed after the data is transferred to the electronic master file and verified. Information in the master file is destroyed 25 years after the last completed action with respect to the benefit.

• Electronic notices and communications associated with a benefit request, to include Approval or Denial letters, Requests for Evidence, Notices of Intent to Deny, Appeal/Motion Responses, etc. are retained for 13 years after the last completed action with respect to the benefit.

• Electronic appointments with USCIS are maintained for 60 days after the date of the appointment.

• Daily reports generated by associated information technology systems are maintained in accordance with the respective retention schedule and then destroyed.

Records replicated on the unclassified and classified networks for analysis and vetting will follow the same retention schedule.

System Manager and address:

The DHS system manager is the Chief, Immigration Records and Identity Services, Records Division, U.S. Citizenship and Immigration Services, Department of Homeland Security, 20 Massachusetts Avenue NW., Washington, DC 20529.

Notification procedure:

Individuals seeking notification of and access to any record contained in this system of records, or seeking to contest its content, may submit a request in writing to the National Records Center, Freedom of Information Act (FOIA)/Privacy Act (PA) Office, P.O. Box 648010, Lee's Summit, MO 64064-8010. Specific FOIA information can be found at http://www.dhs.gov/foia under “Contacts.” If an individual believes more than one component maintains Privacy Act records concerning him or her, the individual may submit the request to the Chief Privacy Officer and Chief FOIA Officer, Department of Homeland Security, 245 Murray Drive SW., Building 410, STOP-0655, Washington, DC 20528.

When seeking records about yourself from this system of records or any other Departmental system of records, your request must conform with the Privacy Act regulations set forth in 6 CFR part 5. You must first verify your identity, meaning that you must provide your full name, current address, and date and place of birth. You must sign your request, and your signature must either be notarized or submitted under 28 U.S.C. 1746, a law that permits statements to be made under penalty of perjury as a substitute for notarization. While no specific form is required, you may obtain forms for this purpose from the Chief Privacy Officer and Chief FOIA Officer, http://www.dhs.gov/foia or 1-866-431-0486. In addition, you should:

• Explain why you believe the Department would have information on you;

• Identify which component(s) of the Department you believe may have the information about you;

• Specify when you believe the records would have been created; and

• Provide any other information that will help the FOIA staff determine which DHS component agency may have responsive records;

If your request is seeking records pertaining to another living individual, you must include a statement from that individual certifying his/her agreement for you to access his/her records.

Without the above information, the component(s) may not be able to conduct an effective search, and your request may be denied due to lack of specificity or lack of compliance with applicable regulations.

In processing requests for access to information in this system, USCIS will review the records in the operational system and coordinate with DHS to address access to records on the DHS unclassified and classified networks.

Record access procedures:

See “Notification procedure” above.

Contesting record procedures:

See “Notification procedure” above.

Record source categories:

DHS/USCIS obtains records from the benefit requestor, his or her Representative, Physician, Preparer, or Interpreter. DHS/USCIS personnel may input information as they process a case, including information from internal and external sources to verify whether a benefit requestor or family is eligible for the benefit requested. BIS also stores and uses information from the following USCIS, DHS, and other federal agency systems of records:

• DHS/USCIS/ICE/CBP-001 Alien File, Index, and National File Tracking System of Records, 78 FR 69864 (November 21, 2013);

• DHS/USCIS-002 Background Check Service, 72 FR 31082 (June 5, 2007);

• DHS/USCIS-003 Biometric Storage System, 72 FR 17172 (April 6, 2007);

• DHS/USCIS-005 Inter-Country Adoptions Security 72 FR 31086 (June 5, 2007);

• DHS/USCIS-006 Fraud Detection and National Security Records (FDNS) 77 FR 47411 (August 8, 2012);

• DHS/USCIS-010 Asylum Information and Pre-Screening, 75 FR 409 (January 5, 2010);

• DHS/CBP-011 U.S. Customs and Border Protection TECS, 73 FR 77778 (December 19, 2008);

• DHS/ICE-001 Student and Exchange Visitor Information System, 75 FR 412 (January 5, 2010);

• DHS/ICE-011 Immigration and Enforcement Operational Records System (ENFORCE), 80 FR 24269 (April 30, 2015);

• DHS/CBP-021 Arrival and Departure Information System (ADIS), 80 FR 72081 (November 18, 2015);

• DHS/NPPD-004 DHS Automated Biometric Identification System (IDENT), 72 FR 31080 (June 5, 2007);

• JUSTICE/EOIR-001 Records and Management Information System, 72 FR 3410 (January 25, 2007);

• JUSTICE/FBI-002 The FBI Central Records System, 72 FR 3410 (January 25, 2007);

• JUSTICE/FBI-009 Fingerprint Identification Records System (FIRS), 72 FR 3410 (January 25, 2007);

• DOL/ETA-7 Employer Application and Attestation File for Permanent and Temporary Alien Workers, 77 FR 1728, (January 10, 2012);

• STATE-05 Overseas Citizens Services Records, 73 FR 24343 (May 2, 2008);

• STATE-26 Passport Records, 76 FR 34966 (July 6, 2011);

• STATE-39 Visa Records, 77 FR 65245 (October 25, 2012); and

• TREASURY/FMS-017 Collections Records, 74 FR 23006 (May 15, 2009).

Exemptions claimed for the system:

None.

Dated: October 5, 2016.
Jonathan R. Cantor,
Acting Chief Privacy Officer, Department of Homeland Security.

[FR Doc. 2016-25192 Filed 10-18-16; 8:45 am]

BILLING CODE 9111-97-P